Title 3—

The President

Proclamation 7662 of April 10, 2003

Education and Sharing Day, U.S.A., 2003

By the President of the United States of America

A Proclamation

As a Nation, we must work to ensure that all our children have the opportunity to reach their full potential and achieve their dreams. On Education and Sharing Day, U.S.A., 2003, we renew our commitment to providing quality education and to teaching our children the values that prepare them for lives as good neighbors and citizens.

Education has always been one of our Nation's top priorities. We place great reliance and confidence in our public education system, recognizing that it is one of the most important institutions of our free society. By helping our young citizens learn and develop skills, education has spurred our progress and prosperity, driven our Nation's economy, and enriched our culture.

Over the last 2 years, my Administration has taken significant action to transform public education in America. In one of the most comprehensive reforms ever passed, the No Child Left Behind Act of 2001 strengthened our school systems and affirmed our fundamental belief in the promise of every child. By raising expectations and insisting on results, we can make a difference in the lives of all our children.

As part of our commitment to our children's future, we must also teach young Americans to live lives of integrity and purpose, and to realize the importance of loving others and contributing to their communities. These values are first learned within the family, but all of our citizens, and especially our teachers, can support parents in the character education of our children. By guiding young people to understand universal values such as tolerance, honesty, commitment to family, service to others, and respect for the dignity of every life, our schools and communities can help our Nation fulfill its great potential.

For the past 19 years, on the anniversary of his birth, we have recognized the contributions of the Rabbi Menachem Mendel Schneerson, the Lubavitcher Rebbe who was instrumental in establishing numerous educational, social, and rehabilitative institutions. The Rebbe believed that education is critical in cultivating the moral character of students. He lived what he said: “A single good deed on your part could transform the world.”

Today in the United States, there is a growing momentum of acts of kindness. Across our country, millions of Americans are helping to reinforce a culture of service, citizenship, and responsibility, and are applying the compassion of America to our biggest problems and deepest wounds. To build on these successes, we must instill these values in our next generation of leaders. Amidst a world of challenges, we can equip our children to carry our Nation into a future of promise and possibility for all.

NOW, THEREFORE, I, GEORGE W. BUSH, President of the United States of America, by virtue of the authority vested in me by the Constitution and laws of the United States, do hereby proclaim April 13, 2003, as Education and Sharing Day, U.S.A. I call upon all Americans to invest in our Nation's future by helping our children understand the importance of character and provide them the knowledge and values necessary to succeed.

IN WITNESS WHEREOF, I have hereunto set my hand this tenth day of April, in the year of our Lord two thousand three, and of the Independence of the United States of America the two hundred and twenty-seventh.

B

[FR Doc. 03-9364

Filed 4-14-03; 8:45 am]

Billing code 3195-01-P